DEPARTMENT OF COMMERCE

International Trade Administration

[C-351-829]

Agreement Suspending the Countervailing Duty Investigation on Hot-Rolled Flat-Rolled Carbon-Quality Steel From Brazil; Correction to the Notice of Termination of Suspension Agreement and Notice of Countervailing Duty Order

AGENCY: Import Administration, International Trade Administration, Department of Commerce.

ACTION: Correction to notice of termination and notice of countervailing duty order.

EFFECTIVE DATE: October 12, 2004.

FOR FURTHER INFORMATION CONTACT: Sally Gannon or Jonathan Herzog, Office of Policy and Negotiations, Bilateral Agreements Unit, Import Administration, International Trade Administration, U.S. Department of Commerce, 14th Street and Constitution Avenue, NW., Washington DC 20230; telephone (202) 482-0162 or (202) 482-4271, respectively.

Background

On September 17, 2004, the Department of Commerce (“the Department”) published in the Federal Register notice of the termination of the Agreement Suspending the Countervailing Duty Investigation on Hot-Rolled Flat-Rolled Carbon-Quality Steel from Brazil and notice of countervailing duty order. See Agreement Suspending the Countervailing Duty Investigation on Hot-Rolled Flat-Rolled Carbon-Quality Steel from Brazil; Termination of Suspension Agreement and Notice of Countervailing Duty Order, 69 FR 56040 (September 17, 2004) (“Termination Notice”). In the Termination Notice, the Department inadvertently listed separate countervailing duty ad valorem rates for Usinas Siderurgicas de Minas Gerais, S.A. (“USIMINAS”) and Companhia Siderurgic Paulista (“COSIPA”). See Termination Notice, 69 FR at 56043. However, in the final determination of the underlying countervailing duty investigation, the Department determined USIMINAS and COSIPA to be affiliated under section 771(33)(E) of the Tariff Act of 1930, as amended (“the Act”), and calculated a single countervailing duty rate for both companies (e.g., USIMINAS/COSIPA). See Final Affirmative Countervailing Duty Determination: Certain Hot-Rolled Flat-Rolled Carbon-Quality Steel Products From Brazil, 64 FR 38742, 38744 & 38755 (July 19, 1999). Therefore, the final countervailing duty ad valorem rate and cash deposit rate for USIMINAS/COSIPA is as follows:

Manufacturer/exporter | Net subsidy rate percent
USIMINAS/COSIPA | 9.67

This notice is published in accordance with sections 704(i) and 777(i) of the Act. This order is published in accordance with section 706(a) of the Act.

Dated: September 28, 2004.
James J. Jochum,
Assistant Secretary for Import Administration.

[FR Doc. E4-2565 Filed 10-8-04; 8:45 am]

BILLING CODE 3510-DS-P